SECURITIES AND EXCHANGE COMMISSION

Sunshine Act Meetings

TIME AND DATE: Notice is hereby given, pursuant to the provisions of the Government in the Sunshine Act, Public Law 94-409, that the Securities and Exchange Commission Investor Advisory Committee will hold a public meeting on Thursday, December 4, 2025. The meeting will begin at 10 a.m. (ET) and will be open to the public.

PLACE: The meeting will be conducted by remote means. Members of the public may watch the webcast of the meeting on the Commission's website at www.sec.gov.

STATUS: This Sunshine Act notice is being issued because a majority of the Commission may attend the meeting.

PUBLIC COMMENT: The public is invited to submit written statements to the Committee. Written statements should be received on or before December 3, 2025.

Written statements may be submitted by any of the following methods:

Electronic Statements

• Use the Commission's internet submission form (https://www.sec.gov/comments/265-28/investor-advisory-committee-meeting); or

• Send an email message to rules-comments@sec.gov. Please include File No. 265-28 on the subject line; or

Paper Statements

• Send paper statements to Vanessa A. Countryman, Secretary, Securities and Exchange Commission, 100 F Street NE, Washington, DC 20549-1090.

All submissions should refer to File No. 265-28. This file number should be included on the subject line if email is used. To help us process and review your statement more efficiently, please use only one method.

The Commission will post all statements on the Commission's website. Do not include personal information in submissions; you should submit only information that you wish to make available publicly. We may redact in part or withhold entirely from publication submitted material that is obscene or subject to copyright.

MATTERS TO BE CONSIDERED: The agenda for the meeting includes: welcome and opening remarks; approval of previous meeting minutes; a panel discussion regarding regulatory changes in corporate governance; a panel discussion regarding the tokenization of equity securities; a discussion of a recommendation regarding the disclosure of artificial intelligence's impact on operations; subcommittee reports; and a non-public administrative session.

CONTACT PERSON FOR MORE INFORMATION: For further information, please contact Vanessa A. Countryman from the Office of the Secretary at (202) 551-5400.

Authority: 5 U.S.C. 552b.

Dated: November 25, 2025.
Vanessa A. Countryman,
Secretary.

[FR Doc. 2025-21546 Filed 11-25-25; 4:15 pm]

BILLING CODE 8011-01-P